SMALL BUSINESS ADMINISTRATION

[Declaration of Disaster #3638]

State of South Carolina; Amendment #2

In accordance with a notice received from the Department of Homeland Security—Federal Emergency Management Agency—effective October 25, 2004, the above numbered declaration is hereby amended to include Berkeley, Charleston, and Georgetown Counties as disaster areas due to damages caused by Tropical Storm Frances occurring on September 6, 2004, and continuing through October 11, 2004.

In addition, applications for economic injury loans from small businesses located in the contiguous counties of Colleton and Dorchester in the State of South Carolina may be filed until the specified date at the previously designated location. All other counties contiguous to the above named primary counties have previously been declared.

All other information remains the same, i.e., the deadline for filing applications for physical damage is December 6, 2004, and for economic injury the deadline is July 7, 2005.

(Catalog of Federal Domestic Assistance Program Nos. 59002 and 59008.)
Dated: October 26, 2004.
Herbert L. Mitchell,
Associate Administrator for Disaster Assistance.

[FR Doc. 04-24368 Filed 11-1-04; 8:45 am]

BILLING CODE 8025-01-P